ENVIRONMENTAL PROTECTION AGENCY

[EPA-HQ-OAR-2003-0152; FRL-10005-68-OMS]

Information Collection Request Submitted to OMB for Review and Approval; Comment Request; Compliance Assurance Monitoring Program (Renewal)

AGENCY: Environmental Protection Agency (EPA).

ACTION: Notice.

SUMMARY: The U.S Environmental Protection Agency (EPA) has submitted an information collection request (ICR), Compliance Assurance Monitoring Program (EPA ICR Number 1663.10, OMB Control Number 2060-0376) to the Office of Management and Budget (OMB) for review and approval in accordance with the Paperwork Reduction Act (PRA). This is a proposed extension of the ICR, which is currently approved through June 30, 2020. Public comments were previously requested via the Federal Register on August 26, 2019, during a 60-day comment period. This document allows for an additional 30 days for public comments. A fuller description of the ICR is given below, including its estimated burden and cost to the public. An agency may not conduct or sponsor, and a person is not required to respond to a collection of information unless it displays a currently valid OMB control number.

DATES: Additional comments may be submitted on or before May 29, 2020.

ADDRESSES: Submit your comments to EPA, referencing Docket ID No. EPA-HQ-OAR-2003-0152, online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Mr. Muntasir Ali, Office of Air Quality Planning and Standards, Sector Policies and Programs Division (D243-05), U.S. Environmental Protection Agency, Research Triangle Park, North Carolina 27711; telephone number: (919) 541-0833; and email address: ali.muntasir@epa.gov.

SUPPLEMENTARY INFORMATION: Supporting documents, which explain in detail the information that the EPA will be collecting, are available in the public docket for this ICR (Docket ID No. EPA-HQ-OAR-2003-0152). The docket can be viewed online at https://www.regulations.gov/ or in person at the EPA Docket Center, WJC West Building, Room 3334, 1301 Constitution Avenue NW, Washington, DC 20004. The telephone number for the EPA Docket Center is (202) 566-1744. For additional information about the EPA's public docket, visit https://www.epa.gov/dockets.

Abstract: The Clean Air Act (CAA) contains several provisions directing the EPA to require source owners to conduct monitoring to support certification as to their status of compliance with applicable requirements. Under CAA section 504(c), each operating permit must “set forth inspection, entry, monitoring, compliance, certification and reporting requirements to assure compliance with the permit terms and conditions.” See also CAA section 504(c) (each permit shall require reporting of monitoring the EPA and such other conditions as are necessary to assure compliance). CAA section 504(b) allows the EPA to prescribe rules, methods, and procedures for determining compliance, recognizing that continuous emissions monitoring systems need not be required if other procedures or methods provide sufficiently reliable and timely information for determining compliance. Section 114(a)(1) of the CAA provides additional authority concerning monitoring, reporting, and recordkeeping requirements. This section provides the Administrator with the authority to require any owner/operator of a source to install and to operate monitoring systems and to record the resulting monitoring data. The EPA promulgated the Compliance Assurance Monitoring (CAM) Rule, 40 CFR part 64, on October 22, 1997 (62 FR 54900), pursuant to these provisions. Per 64.9(2)(a), the collection of information for monitoring will include: (1) Summary information on the number, duration and cause (including unknown cause, if applicable) of excursions or exceedances, as applicable, and the corrective actions taken, (2) Summary information on the number, duration and cause (including unknown cause, if applicable) for monitor downtime incidents (other than downtime associated with zero and span or other daily calibration checks, if applicable); and (3) a description of the actions taken to implement a QIP during the reporting period as specified in § 64.8. Upon completion of a QIP, the owner or operator shall include in the next summary report documentation that the implementation of the plan has been completed and reduced the likelihood of similar levels of excursions or exceedances occurring. In accordance with CAA section 114(c) and CAA section 503(e), the monitoring information source owners must submit must also be available to the public except under circumstances set forth in section 114(c) of the CAA.

Form Numbers: None.

Respondents/affected entities: Entities potentially affected by this section are all facilities required to have an operating permit under title V of the CAA. See section 502(a) of the CAA, which defines the sources to obtain a title V permit. See also 40 CFR 70.2 and 71.2.

Respondent's obligation to respond: Mandatory under title V of the CAA. See section 502(a) of the CAA, which defines the sources required to obtain a title V permit. See also 40 CFR 70.2 and 71.2.

Estimated number of respondents: There are 21,448 pollutant-specific emission units (PSEUs), and 117 permitting authorities. Therefore, the estimated number of respondents is 21,565 (total).

Frequency of response: At least every 6 months per title V, 40 CFR 70.6(a)(3)(iii)(A) and (B).

Total estimated burden: 24,590 hours (per year). Burden is defined at 5 CFR 1320.03(b).

Total estimated cost: $999,211 (per year), includes $0 annualized capital or operation and maintenance costs.

Changes in the Estimates: There is a decrease of 26,490 hours in the total estimated respondent burden compared with the ICR currently approved by OMB. This decrease is due to an updated estimate of the number of sources and permits subject to the 40 CFR part 70 programs (a reduction of 1,768 permits), an increase in the number of permitting authorities (an addition of one), a decrease in the number of CAM plan renewal review hours (a decrease of 5.5 hours per occurrence), and no new federal mandates.

Courtney Kerwin,
Director, Regulatory Support Division.

[FR Doc. 2020-09027 Filed 4-28-20; 8:45 am]

BILLING CODE 6560-50-P